FEDERAL MARITIME COMMISSION

[Petition No. P4-16]

Petition of the Coalition for Fair Port Practices for Rulemaking; Notice of Filing and Request for Comments

Notice is hereby given that the Coalition for Fair Port Practices (hereinafter Petitioner), has petitioned the Commission pursuant to 46 CFR 502.51 of the Commission's Rules of Practice and Procedure, to initiate a rulemaking “to clarify what constitutes `just and reasonable rules and practices' with respect to the assessment of demurrage, detention, and per diem charges by ocean common carriers and marine terminal operators when ports are congested or otherwise inaccessible.”

Petitioner proposes and provides the text of a proposed rule and submits fifteen verified statements or supporting letters from its members which include “a broad cross-section of industry stakeholders, including shippers, receivers, motor carriers, port draymen, freight forwarders, 3PLs, and customs brokers.”

In order for the Commission to make a thorough evaluation of the Petition, interested persons are requested to submit views or arguments in reply to the Petition no later than February 28, 2017. Replies shall consist of an original and 5 copies, be directed to the Assistant Secretary, Federal Maritime Commission, 800 North Capitol Street NW., Washington, DC 20573-0001, and be served on Petitioner's counsel, Karyn A. Booth, Thompson Hine LLP, 1919 M Street NW., Suite 700, Washington, DC 20036. A PDF copy of the reply must also be sent to secretary@fmc.gov. Include in the email subject line “Petition No. P4-16.”

Replies containing confidential information should not be submitted by email. The Commission will provide confidential treatment for identified confidential information to the extent allowed by law. A reply containing confidential information must include:

• A transmittal letter requesting confidential treatment that identifies the specific information in the reply for which protection is sought and demonstrates that the information is a trade secret or other confidential research, development, or commercial information.

• A confidential copy of the reply, clearly marked “Confidential-Restricted”, with the confidential material clearly marked on each page.

• A public version of your reply with the confidential information excluded or redacted, marked “Public Version—confidential materials excluded.”

The Petition will be posted on the Commission's Web site at http://www.fmc.gov/P4-16. Replies filed in response to this Petition also will be posted on the Commission's Web site at this location.

Parties participating in this proceeding may elect to receive service of the Commission's issuances in this proceeding through email in lieu of service by U.S. mail. A party opting for electronic service shall advise the Office of the Secretary in writing and provide an email address where service can be made.

Rachel E. Dickon,
Assistant Secretary.

[FR Doc. 2016-31356 Filed 12-27-16; 8:45 am]

BILLING CODE 6731-AA-P